NUCLEAR REGULATORY COMMISSION

10 CFR Part 72

[NRC-2009-0538]

RIN 3150-AI75

List of Approved Spent Fuel Storage Casks: NUHOMS® HD System Revision 1; Correction

AGENCY: Nuclear Regulatory Commission.

ACTION: Direct final rule; correction.

SUMMARY: This document corrects a notice appearing in the Federal Register on May 6, 2010 (75 FR 24786), that amends the regulations that govern storage of spent nuclear fuel. Specifically, this action amends the list of approved spent fuel storage casks to add revision 1 to the NUHOMS HD spent fuel storage cask system. This action is necessary to correctly specify the effective date of the rule if no adverse comments are received, because the notice of direct final rulemaking and the companion notice of proposed rulemaking (75 FR 25120; May 7, 2010) were published in the Federal Register on different dates instead of being published concurrently on the same date, as erroneously stated in the notices.

DATES: Effective July 21, 2010.

FOR FURTHER INFORMATION CONTACT: Jayne M. McCausland, Office of Federal and State Materials and Environmental Management Programs, U.S. Nuclear Regulatory Commission, Washington, DC 20555-0001, telephone (301) 415-6219, e-mail Jayne.McCausland@nrc.gov.

SUPPLEMENTARY INFORMATION: On page 24786, in the first column, the DATES section is corrected to indicate that the final rule is effective on July 21, 2010. On page 24787, column one, the fourth sentence in the Procedural Background section is corrected to read: The amendment to the rule will become effective on July 21, 2010. Also, on page 24787, in the first column, the fifth sentence in the Procedural Background is corrected to read: However, if the NRC receives significant adverse comments on the direct final rule by June 7, 2010, then the NRC will publish a document that withdraws this action and will subsequently address the comments received in a final rule as a response to the companion proposed rule published in the Rules and Regulations section of the Federal Register on May 7, 2010 (75 FR 25120).

Dated at Rockville, Maryland, this 10th day of May 2010.
For the Nuclear Regulatory Commission.
Helen Chang,
Acting Chief, Rules, Announcements and Directives Branch, Division of Administrative Services, Office of Administration.

[FR Doc. 2010-11561 Filed 5-14-10; 8:45 am]

BILLING CODE 7590-01-P